DEPARTMENT OF ENERGY

Federal Energy Regulatory Commission

[Docket No. RM06-16-000]

Mandatory Reliability Standards for the Bulk-Power System; Supplemental Notice of Technical Conference

June 30, 2006.

As announced in a Notice of Technical Conference issued on May 31, 2006, in the above referenced proceeding, a technical conference will be held in the offices of the Commission, 888 First Street, NE., Washington, DC on July 6, 2006, from approximately 9:30 a.m. to 3 p.m. (EST). All interested persons may attend and registration is not required.

The conference will assist in developing a public record in anticipation of the Commission acting on a petition filed by the North American Electric Reliability Council (NERC) for approval of reliability standards. An agenda is included with this notice.

Transcripts of the conference will be immediately available from Ace Reporting Company (202-347-3700 or 1-800-336-6646) for a fee. They will be available for the public on the Commission's eLibrary system seven calendar days after the Commission receives the transcript.

A free Webcast of this event is available through http://www.ferc.gov. Anyone with Internet access who desires to view this event can do so by navigating to http://www.ferc.gov's Calendar of Events and locating this event in the Calendar. The event will contain a link to its Webcast. The Capitol Connection provides technical support for the Webcasts and offers access to the open meetings via television in the DC area and via phone bridge for a fee. If you have any questions, visit http://www.CapitolConnection.org or contact Danelle Perkowski or David Reininger at 703-993-3100.

Commission conferences are accessible under section 508 of the Rehabilitation Act of 1973. For accessibility accommodations please send an e-mail to accessibility@ferc.gov or call toll free 866-208-3372 (voice) or 202-208-1659 (TTY), or send a fax to 202-208-2106 with the required accommodations.

For more information about the conference, please contact Sarah McKinley at (202) 502-8004 (sarah.mckinley@ferc.gov).

Magalie R. Salas,
Secretary.

Review of the North American Electric Reliability Council's Proposed Reliability Standards Federal Energy Regulatory Commission Technical Conference

July 6, 2006, 9:30 a.m.-3 p.m.

9:30 a.m.—Opening Remarks, Joseph T. Kelliher, FERC Chairman.

9:45 a.m.—Introductions, Joseph McClelland, Director, Division of Reliability, Office of Energy Markets and Reliability, FERC.

9:50 a.m.—Panel 1: Effectiveness of North American Electric Reliability Council's (NERC's) Proposed Reliability Standards.

Panelists will provide their views on the proposed Reliability Standards in the context of the May 11, 2006 Staff Preliminary Assessment, focusing on the following questions:

• Do the proposed standards meet the criteria established in Order No. 672 ¹ for Commission approval?

¹ Rules Concerning Certification of the Electric Reliability Organization; and Procedures for the Establishment, Approval, and Enforcement of Electric Reliability Standards, 114 FERC ¶ 61,104 (2006).

• To the extent some standards do not meet the criteria, which should be addressed first? Are there some that have a greater impact on reliability?

• Is it appropriate to focus on the Blackout Report recommendations that have not yet been addressed by the standards, or are there other standards that should receive a higher priority?

• Should all Reliability Standards have performance metrics to gauge the effectiveness of the standards? How quickly can such specific performance metrics be developed? Is there another process that could be used to develop metrics for existing standards?

• What are the implications of applying the EPAct definition of the Bulk Power System instead of the NERC definition of the Bulk Electric System?

• How do we define the “Users, Owners, and Operators” of the “Bulk-Power System”?

• How should a work plan be developed that schedules standards for revision? What are the opportunities for participation in this process by the interested stakeholders?

• What coordination is necessary with other State, Federal, and/or international regulators to ensure a good transition to mandatory reliability standards?

• What process should the United States, Canada, and Mexico follow for review and approval of Reliability Standards to meet possible time constraints?

Panelists:

Richard P. (Rick) Sergel, President and CEO, North American Electric

Reliability Council.

Michael Morris, President and CEO, American Electric Power, on behalf of Edison Electric Institute.

Charles Yeung, Executive Director, Interregional Affairs, Southwest Power Pool, on behalf of the ISO/RTO Council.

Scott M. Helyer, Vice President, Transmission, Tenaska, Inc., and Chairman, Energy Standards Working Group, Electric Power Supply Association.

Canadian Representative, to be announced.

12 p.m.—Lunch.

1 p.m.—Panel 2: What's Needed To Achieve the Goal.

Panelists will address the questions listed above, providing a more in-depth assessment of the standards and appropriate priorities, processes, and metrics needed to ensure a reliable Bulk Power System.

Panelists:

Steve Ruekert, Director, Standards and Compliance, Western Electric Coordinating Council.

Allen Mosher, Director of Policy Analysis, American Public Power Association.

Steven C. Cobb, Manager, Transmission Services, Salt River Project, on behalf of the Large Public Power Council.

David A. Whiteley, Senior Vice President, Energy Delivery Services, Ameren, on behalf of the Edison Electric Institute.

James C. Nixon, Director, Energy Markets, Alcoa Inc.

Canadian Representative, to be announced.

3 p.m.—Concluding Remarks, Joseph T. Kelliher, FERC Chairman.

[FR Doc. E6-10698 Filed 7-7-06; 8:45 am]

BILLING CODE 6717-01-P